FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 40901 of the Shipping Act of 1984 (46 U.S.C. 40101). Notice is also hereby given of the filing of applications to amend an existing OTI license or the Qualifying Individual (QI) for a licensee.

Interested persons may contact the Office of Transportation Intermediaries, Federal Maritime Commission, Washington, DC 20573, by telephone at (202) 523-5843 or by email at OTI@fmc.gov.

American Red Ball International, Inc. (NVO & OFF), 9750 3rd Avenue NE., #200, Seattle, WA 98115, Officers: Beverly Franklin, CFO/Secretary, (Qualifying Individual), John Griffin, President, Application Type: QI Change.

American Vanpac Carriers, Inc. (NVO & OFF), 9750 3rd Avenue NE., #200, Seattle, WA 98115, Officers: Beverly Franklin, CFO/Secretary, (Qualifying Individual), John Griffin, President, Application Type: QI Change.

Atlas Van Lines International Corp. (NVO & OFF), 9750 3rd Avenue NE., #200, Seattle, WA 98115, Officers: Beverly Franklin, Assistant Secretary, (Qualifying Individual), John Griffin, President, Application Type: QI Change.

Dynasty CHB, Inc. (NVO & OFF), 365 Chelsea Street, East Boston, MA 02128, Officers: Dawn Lowry, President/Secretary/Treasurer/Clerk, (Qualifying Individual), Patrick Lee, Director, Application Type: License Transfer & QI Change.

Gulf Premier Logistics LLC (NVO & OFF), 340 N. Sam Houston Parkway East, #217, Houston, TX 77060, Officers: Dee Chase-Unno, Vice President (Operations), (Qualifying Individual), Jason Lancaster, CEO, Application Type: Add NVO Service.

J.B.R. Marine Inc. (NVO & OFF), 1163 Fairway Drive, #106, City of Industry, CA 91789, Officer: XiuJi Zhang, President, (Qualifying Individual), Application Type: Add NVO Service.

Simple Logistics Inc. (NVO), 147-35 Farmers Boulevard, #201, Jamaica, NY 11434, Officers: Hea Seong Jeong, President/Treasurer, (Qualifying Individual), Hong Sik Um, Vice President/Secretary, Application Type: New NVO License.

Victory Van Corporation dba Victory Van International (NVO), 950 S. Pickett Street, Alexandria, VA 22304, Officers: Stephen L. Henegar, Vice President, (Qualifying Individual), Chris Patton, President/CEO, Application Type: QI Change & Business Structure Change.

Worldwide Cargo Services, Inc. (NVO), 2 Johnson Road, Lawrence, NY 11559, Officers: Scott Halfon, Treasurer, (Qualifying Individual), Mark A. Parrotto, President/Secretary, Application Type: New NVO License.

Dated: July 6, 2012.
Karen V. Gregory,
Secretary.

[FR Doc. 2012-16914 Filed 7-10-12; 8:45 am]

BILLING CODE 6730-01-P